DEPARTMENT OF EDUCATION

Information Quality Guidelines

AGENCY: Office of the Chief Information Officer, Department of Education.

ACTION: Notice of availability—Final information quality guidelines.

SUMMARY: This Notice of Availability informs the public that the Department of Education (Department) has issued information quality guidelines, which are available to the public through the Internet as further described in this notice.

DATES: The information quality guidelines are applicable to information the Department disseminates on or after October 1, 2002.

FOR FURTHER INFORMATION CONTACT: For a Copy of the Guidelines and Further Information: The guidelines are available through the Internet at the following site: http://www.ed.gov/offices/OCIO/info_quality/. Agency specific Guidelines for the National Center for Education Statistics are available at the following site: http://nces.ed.gov/statprog/pdf/2002standards.pdf. Alternatively, you may contact Veena Bhatia, U.S. Department of Education, 7th and D Streets, SW., room 4036, Washington, DC 20202-4651. Telephone: (202) 708-9279.

If you use a telecommunications device for the deaf (TDD), you may call the Federal Information Relay Service (FIRS) at 1-800-877-8339.

Individuals with disabilities may obtain this document in an alternative format (e.g., Braille, large print, audiotape, or computer diskette) on request to the contact person listed under For a Copy of the Guidelines and Further Information.

SUPPLEMENTARY INFORMATION:

Background

Section 515 of the Treasury and General Government Appropriations Act for Fiscal Year 2001 (Public Law 106-554) requires all Federal agencies covered by the Paperwork Reduction Act (44 U.S.C. Chapter 35), including the Department of Education, to issue guidelines by October 1, 2002, for the purpose of “ensuring and maximizing the quality, objectivity, utility, and integrity of information (including statistical information) disseminated by the agency.” (Public Law 106-554). The agency guidelines must be consistent with government-wide guidelines published by the Office of Management and Budget (66 FR 49718, September 28, 2001; 67 FR 8452, February 22, 2002) and must include “administrative mechanisms allowing affected persons to seek and obtain correction of information” that the agency maintains and disseminates, and that does not comply with the OMB or agency guidelines.

On May 1, 2002, the Department published in the Federal Register (67 FR 21641) a request for public comments on the Department's draft information quality guidelines. On June 11, 2002, the Department published in the Federal Register (67 FR 39962) a notice reopening and extending the public comment period. The Department received four sets of public comments on the guidelines. Three sets of comments were general suggestions that were addressed to all agencies and did not specifically address the Department's guidelines, e.g., suggestions for how to define terms, set deadlines for review, and establish a correction and appeal process. These comments were considered and, where appropriate, suggested changes have been incorporated into the final guidelines.

The Department did receive one set of comments specifically on its guidelines. That commenter suggested that the Department should: (1) Categorize the types of data the Department would consider as “influential information”; (2) provide more detailed guidance to the program offices with respect to the level of correction and the corresponding action to be taken; and (3) only decide not to process a request for correction if it is made in bad faith.

With respect to the first suggestion, the final guidelines include an expanded definition of influential information and examples of some of the types of data that would fall into this category. With respect to the second suggestion, the Department has not made any changes in the final guidelines; the Department believes that the appropriate program office will exercise good judgment in determining whether a correction is necessary and, if so, what that correction should be. In addition, the ability of the requester to appeal to the Chief Information Officer for an impartial review that is conducted by parties other than those who prepared the Department's initial decision serves as an opportunity for the Department to reconsider whether the initial decision was appropriate. Finally, with respect to the third suggestion, the Department has revised the final guidelines to state that the Department “may reject a request that appears to be made in bad faith or without justification, and is only required to undertake the degree of correction that it concludes is appropriate for the nature and timeliness of the information involved. In addition, the Department need not respond substantively to requests that concern information not covered by the information quality guidelines.”

In addition, the National Center for Education Statistics (NCES) received substantive comments on its standard for Maintaining Confidentiality. In response to those comments, NCES expanded the discussion of laws in the standard and clarified the language required for a confidentiality pledge.

Electronic Access to This Document

You may view this document, as well as all other Department of Education documents published in the Federal Register, in text or Adobe Portable Document Format (PDF) on the Internet at the following site: http;//www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Dated: September 27, 2002.
Craig B. Luigart,
Chief Information Officer.

[FR Doc. 02-25105 Filed 9-30-02; 10:40 am]

BILLING CODE 4000-01-P